DEPARTMENT OF ENERGY

Federal Energy Regulatory Commission

[Docket Nos. CP03-302-000, CP03-303-000, CP03-304-000, PF03-1-000, and CP03-301-000]

Cheyenne Plains Gas Pipeline Company and Colorado Interstate Gas Company; Notice of Availability of the Draft Environmental Impact Statement for the Proposed Cheyenne Plains Pipeline Project

October 3, 2003.

The staff of the Federal Energy Regulatory Commission (FERC or Commission) has prepared a draft environmental impact statement (DEIS) on the natural gas pipeline facilities proposed by Cheyenne Plains Gas Pipeline Company (CPG) and Colorado Interstate Gas Company (CIG) in the above-referenced dockets. The proposed project, referred to as the Cheyenne Plains Pipeline Project, is located in various counties in Colorado and Kansas.

The DEIS was prepared to satisfy the requirements of the National Environmental Policy Act. The staff concludes that if the project is constructed as modified and with the appropriate mitigation measures as recommended, it would have limited adverse environmental impact.

The U.S. Department of Agriculture, Forest Service (FS) is participating as a cooperating agency in the preparation of this DEIS as they (the FS) will be issuing their own Record of Decision on whether or not to issue a special use authorization for the portion of the pipeline that crosses the Pawnee National Grassland (PNG). The Forest Service's Record of Decision is appealable under 36 CFR Part 215, Notice, Comment and Appeal Procedures for National Forest System Projects and Activities. In agreement with 36 CFR 215.13, only individuals and organizations who submit substantive written or oral comments during the 45-day comment period for the DEIS for the proposed Cheyenne Plains Pipeline Project (and specifically addresses the portion on the PNG) may appeal the Regional Forester's decision as documented in the Record of Decision.

The U.S. Fish and Wildlife Service (FWS) is also a cooperating agency in the preparation of the DEIS because the project has the potential to affect endangered species, migratory birds, wildlife, and habitat.

The DEIS addresses the potential environmental effects of the construction and operation of the following facilities:

• A total of 379.8 miles of 30-inch-diameter mainline, with 189.0 miles in Colorado (Weld, Morgan, Washington, Yuma, and Kit Carson Counties) and 190.8 miles in Kansas (Sherman, Wallace, Logan, Scott, Lane, Finney, Hodgeman, Ford, and Kiowa Counties);

• 0.2 mile of 20-inch-diameter lateral ¹ (Sand Dune Lateral) in Kiowa County, Kansas;

¹ A lateral is typically a smaller diameter pipeline that takes gas from the main system to deliver it to a customer, local distribution system, or another interstate transmission system.

• 4.2 miles of 30-inch-diameter lateral (South Rattlesnake Creek Lateral) in Kiowa County, Kansas;

• 3.0 miles of 8-inch-diameter lateral (Cossell Lake Lateral) in Kiowa County, Kansas;

• one 2,443-horsepower (hp) jumper compressor installed within CIG's existing compressor station located at the Cheyenne Hub in Weld County, Colorado;

• three 10,310-hp turbine compressors installed in a new CPG compressor station located at the Cheyenne Hub;

• a new gas treatment plant at the Cheyenne Hub consisting of separate amine and glycol processing trains;

• nine new interconnects ² with existing pipeline systems. These interconnects would include metering facilities and would consist of two receipt points, one each with CIG and Wyoming Interstate Company at the Cheyenne Hub in Weld County, Colorado, and seven delivery points, one with Kinder Morgan Interstate Pipeline Company in Scott County, Kansas, one with Natural Gas Pipeline Company of America in Ford County, Kansas, and one each with Southern Star Central Gas Pipeline, LLC, ANR Pipeline Company, Northern Natural Gas Company, Panhandle Eastern Pipe Line Company, and Kansas Gas Service Company in Kiowa County, Kansas;

² An interconnect is a connection to another pipeline system that is used to deliver or receive gas. Metering and regulating facilities would typically be included at each interconnect.

• 32 mainline valves (MLVs), consisting of 1 at the Cheyenne Hub, 4 at interconnects in Kiowa County, Kansas, and 27 located independently along the mainline and laterals; and

• two pig ³ launchers, two pig receivers, and five pig launcher and receivers, each collocated with new MLV sites.

³ A pig is an internal tool that can be used to clean and dry a pipeline and/or to inspect it for damage or corrosion.

Comment Procedures and Public Meetings

Any person wishing to comment on the DEIS may do so. Please carefully follow these instructions so that your comments are properly recorded:

• Send an original and two copies of your comments to: Magalie R. Salas, Secretary, Federal Energy Regulatory Commission, 888 First St., NE., Room 1A, Washington, DC 20426;

• Label one copy of your comments for the attention of Gas Branch 1, DG2E;

• Reference Docket No. CP03-302-000 on the original and both copies; and

• Mail your comments so that they will be received in Washington, DC on or before November 24, 2003.

Please note that we are continuing to experience delays in mail deliveries from the U.S. Postal Service. Therefore, the Commission encourages electronic filing of comments. See Title 18 Code of Federal Regulations (CFR) Section 385.2001(a)(1)(iii) and the instructions on the Commission's Internet Web site at http://www.ferc.gov under the “eFiling” link and the link to the User's Guide. Prepare your submission in the same manner as you would if filing on paper and save it to a file on your hard drive. Before you can file comments you will need to create an account by clicking on “Sign-up” under “New User.” You will be asked to select the type of filing you are making. This filing is considered a “Comment on Filing.”

In addition to or in lieu of sending written comments, the FERC invites you to attend the public meetings the staff will conduct in the project area to receive comments on the draft EIS. All meetings will begin at 7 p.m., and are scheduled as follows:

Date | Location
Tuesday, November 18, 2003 | Quality Inn, 14378 US Highway 34, Fort Morgan, Colorado, (970) 867-8208.
Wednesday, November 19, 2003 | Old Town Museum, 420 S. 14th Street, Burlington, Colorado, (719) 346-7382.
Thursday, November 20, 2003 | Scott City Fairgrounds, Fair Ground Road, Scott City, Kansas, (620) 872-2626.

Interested groups and individuals are encouraged to attend and present oral comments on the DEIS. Transcripts of the meetings will be prepared.

After comments are reviewed, any significant new issues are investigated, and modifications are made to the DEIS, a final EIS will be published and distributed by the staff. The final EIS will contain the staff's responses to timely comments received on the DEIS.

Comments will be considered by the Commission but will not serve to make the commentor a party to the proceeding. Any person seeking to become a party to the proceeding must file a motion to intervene pursuant to Rule 214 of the Commission's Rules of Practice and Procedures (Title 18 CFR 385.214).

Anyone may intervene in this proceeding based on this draft EIS. You must file your request to intervene as specified above.⁴ You do not need intervenor status to have your comments considered.

⁴ Interventions may also be filed electronically via the Internet in lieu of paper. See the previous discussion on filing comments electronically.

The DEIS has been placed in the public files of the FERC and is available for public inspection at: Federal Energy Regulatory Commission, Public Reference Room, 888 First Street, NE., Room 2A, Washington, DC 20426, (202) 502-8371.

A limited number of copies of the DEIS are available from the Public Reference Room identified above. In addition, copies of the DEIS have been mailed to Federal, state, and local agencies; elected officials; Native American tribes; newspapers; public libraries; intervenors to the FERC's proceeding; individuals who provided scoping comments; and individuals who requested the DEIS.

Additional information about the project is available from the Commission's Office of External Affairs, at 1-866-208 FERC (3372) or on the FERC Internet Web site (http://www.ferc.gov). Using the “eLibrary” (formerly FERRIS) link, select “General Search” from the eLibrary menu, enter the selected date range and “Docket Number” (i.e., CP03-302-000), and follow the instructions. You may also search using the phrase “Cheyenne Plains” in the “Text Search” field. For assistance with access to eLibrary, the helpline can be reached at 1-866-208-3676, TTY (202) 502-8659, or at FERCOnlineSupport@ferc.gov.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Information concerning the involvement of the FS is available from John Oppenlander at (970) 346-5005. Information concerning the involvement of the FWS is available from Dan Mulhern at (785) 539-3474 (ext. 109).

Magalie R. Salas,
Secretary.

[FR Doc. E3-00040 Filed 10-14-03; 8:45 am]

BILLING CODE 6717-01-P